POSTAL RATE COMMISSION

Sunshine Act Meetings

Name of Agency: Postal Rate Commission.

Time and Date: August 11, 2003 at 10:30 a.m.

Place: Commission conference room, 1333 H Street, NW., Suite 300, Washington, DC 20268-0001.

Status: Open.

Matters to be Considered: Discussion and vote on the Postal Rate Commission's fiscal year 2004 budget.

FOR FURTHER INFORMATION CONTACT: Stephen L. Sharfman, General Counsel, Postal Rate Commission, Suite 300, 1333 H Street, NW., Washington, DC 20268-0001, 202-789-6820.

Dated: August 5, 2003.
Garry J. Sikora,
Acting Secretary.

[FR Doc. 03-20333 Filed 8-5-03; 3:56 pm]

BILLING CODE 7710-FW-M